DEPARTMENT OF TRANSPORTATION

Office of the Secretary

[Docket No. DOT-OST-2009-0115]

Agency Information Collection Activities: Request for Extension of a Previously Approved Information Collection

AGENCY: U.S. Department of Transportation, Office of the Secretary (OST).

ACTION: Notice and request for OMB review.

SUMMARY: The Department of Transportation (DOT) invites public comments about our intention to request the Office of Management and Budget (OMB) approval to renew an information collection. The collection involves the Supplemental Discretionary Grants for a National Surface Transportation System. The information to be collected will be used to and/or is necessary in order to receive and evaluate applications for grant funds pursuant to Title XII of the American Recovery and Reinvestment Act of 2009 (ARRA). Title XII established a new program for OST to provide Supplemental Discretionary Grants for a National Surface Transportation System. OST is referring to these grants as Grants for Transportation Investment Generating Economic Recovery, or “TIGER” Discretionary Grants. The purposes of the TIGER Discretionary Grants program include promoting economic recovery and supporting projects that have a significant impact on the Nation, a metropolitan area or a region. A 60-day Federal Register notice was published on August 21, 2009 (FR Vol. 74, No. 161). Since the release of the initial May 18, 2009, interim Federal Register notice, a total of 145 comments were received to the Docket (DOT-OST-2009-0115) and reviewed by the Department. Many of the comments received were letters supporting applications submitted for TIGER Discretionary Grant funding. These letters of support were submitted by members of Congress and members of the public. In addition, comments were submitted by members of the public requesting changes to the program selection criteria. These comments were considered and changes were made to the selection criteria in a June 17, 2009, Federal Register notice (FR Vol. 74, No. 115). None of the comments submitted to the Docket since the initial May 18, 2009, Federal Register notice were related to the proposed approval to renew the information collection.

DATES: Comments should be submitted by December 14, 2009 and submitted to the attention of the DOT/OST Desk Officer, Office of Information and Regulatory Affairs, Office of Management and Budget, Docket Library, Room 10102, 725 17th Street, NW., Washington, DC 20503 with the associated OMB Approval Number 2105-0560 and Dockets (DOT-OST-2009-0115).

FOR FURTHER INFORMATION CONTACT: The TIGER Discretionary Grants program manager via e-mail at TIGERGrants@dot.gov.

Comments: Comments should be sent to the attention of the DOT/OST Desk Officer, Office of Management and Budget, Office of Information and Regulatory Affairs, Docket Library, Room 10102, 725 17th Street, NW., Washington, DC 20503 or oira_submissions@omb.eop.gov and should identify the associated OMB control number 2105-0560 and Docket (DOT-OST-2009-0115).

SUPPLEMENTARY INFORMATION: OMB Control Number: 2105-0560.

Title: Supplemental Discretionary Grants for a National Surface Transportation System or TIGER Discretionary Grants.

Form Numbers: None.

Type of Review: Renewal of an information collection.

Background: On February 17, 2009, the President of the United States signed the Recovery Act to, among other purposes, (1) preserve and create jobs and promote economic recovery, (2) invest in transportation infrastructure that will provide long-term economic benefits, and (3) assist those most affected by the current economic downturn. The Recovery Act appropriated $1.5 billion of discretionary grant funds to be awarded by the Department for capital investments in surface transportation infrastructure. The funds provided by TIGER Discretionary Grants are awarded on a competitive basis to projects that have a significant impact on the Nation, a metropolitan area, or a region.

On May 18, 2009, the Department published an interim notice announcing the availability of funding for TIGER Discretionary Grants, project selection criteria, application requirements and the deadline for submitting applications, which was September 15, 2009. On June 17, 2009, the Department published an additional notice revising some elements of the interim notice (FR Vol. 74, No. 115). A 60-day Federal Register notice was published on August 21, 2009 (FR Vol. 74, No. 161). As the result of the notices, 145 comments were received to the Docket (DOT-OST-2009-0115). Many of the comments received were letters supporting applications submitted for TIGER Discretionary Grant funding. These letters of support were submitted by members of Congress and members of the public. In addition, comments were submitted by members of the public requesting changes to the program selection criteria. These comments were considered and changes were made to the selection criteria in the June 17, 2009, Federal Register notice. None of the comments received to the Docket were related to the proposed approval to renew the information collection. The Department's estimated burden for this information collection:

Expected Number of Respondents: 500.

Frequency: One time collection.

Estimated Average Burden per Response: 100 hours.

Estimated Total Annual Burden: 50,000.

Authority: The Paperwork Reduction Act of 1995; 44 U.S.C. Chapter 35, as amended; and 49 CFR 148.

Issued in Washington, DC on November 6, 2009.
Patricia Lawton,
DOT PRA Clearance Officer.

[FR Doc. E9-27342 Filed 11-10-09; 8:45 am]

BILLING CODE 4910-9X-P